DEPARTMENT OF THE INTERIOR

Bureau of Land Management

[NV-050-01-5101-ER-F323; N-66472, N-73726, N-66150, N-61191]

Notice of Realty Action—Clark County, NV; Notice of Intent for a Table Mountain Area Environmental Impact Statement Focusing on Wind Power Projects and Other Planned Energy Projects, Notice of Public Meetings, Request for Interest In a Right-of-way for a Wind Array, and Request for Other Potential Applications for Power Generating Facilities Not Known to the Bureau of Land Management

AGENCY: Bureau of Land Management, Interior.

ACTION: Notice of Intent (NOI) to prepare an Environmental Impact Statement (EIS), notice of EIS public scoping meetings for construction of an array of wind turbines and ancillary facilities, and other power generating facilities, in the Table Mountain Area of Clark County, Nevada, a request for interest in acquiring a right-of-way for an array of wind turbines and ancillary facilities, and a request for other potential applications for power generating facilities not known to the Bureau of Land Management in the same area.

SUMMARY: Pursuant to Section 102 (2)(C) of the National Environmental Policy Act of 1969, the Bureau of Land Management (BLM), Las Vegas Field Office, will be directing the preparation of an EIS and conducting scoping meetings on Table Mountain, Shenandoah Peak and Potosi Peak area to assess the potential impacts of a proposed right-of-way for an array of wind turbines and ancillary facilities, and possible rights-of-way for other power generating facilities. The area is essentially encompassed by Sandy Valley, Goodsprings, Jean, and Primm, Nevada.

This Notice is also a call for parties interested in competitively bidding for an opportunity to apply to have a right-of-way application for wind power development to be analyzed in an EIS.

SUPPLEMENTARY INFORMATION: The Table Mountain area is located in the extreme southern part of Nevada essentially encompassed by Sandy Valley, Goodsprings, Jean, and Primm, Nevada. The site is located in the Springs Mountain Range at an elevation of approximately 5,000 feet. The area is accessible by Inter-state Highway 15, State Highway 161 and a Clark County road that passes through Sandy Valley. Existing dirt roads throughout the area provide access to microwave towers, radio towers, weather station, transmission lines and numerous mining claims.

The proposed wind power development area encompasses approximately 4,500 acres of public lands. The legal description of the public land proposed to be available for wind power development is as follows:

Mount Diablo Meridian

T. 24 S., R. 57 E.

Sec. 13, E½.

T. 24 S., R. 58 E.

Sec. 5, S½, S½NW¼, S½NE¼;

Sec. 6, S½, NE¼, S½NW¼;

Sec. 7, All;

Sec. 8, All;

Sec. 18, All;

Sec. 19, All;

Sec. 29, W½SW¼;

Sec. 30, All;

Sec. 31, N½, N½SW¼, N½SE¼;

Sec. 32, N½, SE ¼, N½SW¼, SE¼SW¼;

Sec. 33, All;

Sec. 34, SW¼NW¼, NW¼SW¼, S½SW¼, S½SE¼;

Sec. 35, S½SW¼ .

T. 25 S., R. 58 E.

Sec. 2, NW¼;

Sec. 3, All;

Sec. 4, All;

Sec. 5, E½NE¼, E½SE¼;

Sec. 9, N½, SE¼;

Sec. 10, All;

Sec. 15, All;

Sec. 16, NE¼, E½SE¼;

Sec. 22, N½, SE¼, E½SW¼.

The extent of other potential applications for power generating facilities is unknown at this time, but may include power lines and a substation located along the perimeter of the area described above.

All applicants will share in the cost reimbursement and preparation of the EIS through the Record of Decision, and construction.

Written Expressions of Interest

With publication of this notice and until the end of the NOI comment period, the BLM is accepting written expressions of interest for taking part in a competitive auction for a preference right to file a right-of-way application for a site on which to construct, operate, and maintain an array of wind turbines. All except the successful bidder's proposed project would be eliminated from being considered in the EIS. Thus, the unsuccessful bidder(s) could invest their capital elsewhere and a more focused EIS could be provided. Written expressions of interest filed and received after the comment period closes will be returned.

Information specific to written expressions of interest for taking part in a competitive auction for a preference right to file a right-of-way application for a site to construct, operate, and maintain an array of wind turbines is available in writing, by telefax, or on e-mail by visiting the BLM, Las Vegas home page at www.nv.blm.nv/vegas.

Competitive Auction for a Preference Right

The preference right competitive auction will be held on February 8, 2001, at 2:00 p.m. at the Bureau of Land Management, Las Vegas Field Office, 4765 Vegas Drive, Las Vegas, Nevada. The bidding process shall be an oral auction. A $16,500 sealed bid must be submitted to be qualified to take part in the oral auction. The opening bid will be considered to be the $16,500 sealed bid, and will be determined by draw. Bid raises will be at increments dictated by the participating bidders. The last bid taken will be considered the high bid. It is to be noted that this bidding is to determine which interested party will be considered the applicant and have their proposal evaluated in the EIS. The successful bidder would become the applicant and would submit a build out plan (Plan of Development). The Plan of Development (POD) would be in sufficient detail to develop the proposed action for the EIS. This information will also be presented at the second round of public meetings, see below.

The POD would include a detailed schematic illustrating the proposed locations of the turbines, power cables, roads, telecommunication system, substations, and related facilities. Detailed drawings of the turbines and their support structures are required. The POD would include a weed inventory and management plan, storm water pollution control plan, hazardous materials spill prevention and control plan, emergency services plan, reclamation plan, and mitigation measures designed to reduce anticipated impacts. It would also include an electric transmission and wheeling plan that details method of interconnection and means to transmit power output to the market. The transmission plan should show evidence that there is a transmission interconnect study with a local electrical utility illustrating that the utility has sufficient capacity and can upgrade its system to handle the wind generation output.

As part of processing the right-of-way application, the annual rent will be established by an appraisal. Rent must be paid prior to issuance of the right-of-way, should that be the decision in the EIS. No warranty of any kind shall be given or implied by the United States as to the potential uses of the lands offered by competitive bid or that a right-of-way shall be issued.

A bond will be required, in accordance with 43 CFR 2803.1-4.

The Las Vegas Field Office's rationale for this request is to better manage processing of the volume of applications being filed, provide for better management of right-of-way corridors, and more completely analyze the cumulative impacts in the area specified. With publication of this notice and until the end of the NOI comment period, the BLM is encouraging the filing of applications for rights-of-way for other power generating facilities on the public lands described above and for the surrounding area. Applications received after that time will be held and processed after a decision is made on the EIS.

Preliminary Issues

Tentatively identified issues of concern may include: threatened and endangered species, visual resources, wildlife, cultural resources, land use, and wild horses.

Posssible Alternatives

The EIS will analyze the Proposed Actions and No Action Alternative. Other alternatives may include modifying proposed tower/turbine locations, road, power cable and line locations, rerouting linear electric power line right-of-way locations, as well as mitigating measures.

Decisions To Be Made

Separate Records of Decision would be issued for the right-of-way for an array of wind turbines and ancillary facilities, and the rights-of-way for other types of power generating facilities, roads, and transmission lines.

Public Scoping Meetings

Two sets of public scoping meetings are planned. The first round of meetings will be “open houses” giving an opportunity for each entity anticipating filing a letter of interest to be considered for competitive bidding on the wind power development, and for applicants for rights-of-way for other power generating facilities, to provide informational brochures, present models or other presentations addressing their planned facility. Since space is limited, those applicants and potential applicants planning to make presentations need to contact the Project Manager named below to determine the applicability of the space available to their proposed presentation.

The successful bidder for the preference right to construct, operate, and maintain an array of wind turbines will be selected prior to the second round of public meetings. This entity and the applicants for the rights-of-way for other power generating facilities, will present detailed proposals at the second round of public meetings.

The second round of meetings will be more formal, providing time for a description of the proposals that are presented and time to present comments and issues that need to be addressed in the EIS.

The first round of public meetings will be “open houses” starting at 6 p.m. and ending at 9:00 p.m. Beginning at 7 p.m. the EIS process will be explained and an opportunity will be given for written comments and general concerns. Meetings have been scheduled for the following locations:

January 16, 2001 at the Clark County Government Center, Room ODC #3, 500 Grand Central Parkway, Las Vegas, Nevada.

January 17, 2001 at the Community Center, W. Quartz Ave., Sandy Valley, Nevada.

January 18, 2001 at the Community Center, 375 W. San Pedro Ave., Goodsprings, Nevada.

The second round of public meetings will be more formal with determination of the successful bidder for application of the wind power right-of-way having been made. These scoping meetings will be held from 6:30 p.m. to 9:30 p.m.

February 27, 2001 at the Community Center, 375 W. San Pedro Ave., Goodsprings, Nevada.

February 28, 2001 at the Clark County Government Center, Room ODC #3, 500 Grand Central Parkway, Las Vegas, Nevada.

March 1, 2001 at the Community Center, W. Quartz Ave., Sandy Valley, Nevada.

Public Input Requested

Comments concerning the Proposed Actions and EIS should address issues to be considered, feasible alternatives to examine, possible mitigation, and information relevant to or having a bearing on the Proposed Action.

Comment Dates

The comment period for scoping the EIS will commence with the publication of this notice. Those having concerns, issues, or alternatives they would like to see addressed in the EIS should respond with written comments within 30 days from the date of this notice. This Scoping Notice will be distributed by mail on or about the date of this notice. Comments on the proposed EIS and responses for the call for interest will be accepted for 30 days following the date of this notice.

All comments received at the public meeting or through written comments submitted will aid the BLM in identifying alternatives and assuring all issues are analyzed in the environmental impact analysis.

ADDRESSES: Information and a copy of this Scoping Notice for the Table Mountain Wind Power EIS can be obtained by either writing to or visiting the Bureau of Land Management, Las Vegas Field Office, 4765 Vegas Drive, Las Vegas, Nevada 89108. Comments and issues on the proposed EIS, expressions of interest for participating in competitive bidding, or other energy related proposals in the area specified above should be mailed to Anna M. Wharton, Project Manager, Bureau of Land Management, Las Vegas Field Office, 4765 Vegas Drive, Las Vegas, Nevada 89108 or at e-mail awharton@nv.blm.gov (e-mail is not applicable for the expression of interest as announced above).

FOR FURTHER INFORMATION CONTACT: Anna M. Wharton, (702) 647-5000 or at e-mail awharton@nv.blm.gov.

Dated: December 18, 2000.
Rex Wells,
Assistant Field Manager, Division of Lands.

[FR Doc. 00-33222 Filed 12-28-00; 8:45 am]

BILLING CODE 4310-HC-P